DEPARTMENT OF COMMERCE

International Trade Administration

[A-821-805]

April 2000 Sunset Reviews; Correction to Final Result and Revocation

AGENCY: Import Administration, International Trade Administration, Department of Commerce.

ACTION: Notice of Correction to April 2000 Sunset Reviews; Final Result and Revocation.

SUMMARY: On July 7, 2000, the Department of Commerce (“the Department”) published in the Federal Register the final results of the sunset review of the antidumping duty order on pure magnesium from Russia.¹ Subsequent to the publication of the final results, we identified an error in the “Effective Date of Revocation” section of the notice. Therefore, we are correcting and clarifying this error.

¹ See April 2000 Sunset Reviews; Final Results and Revocation, 65 FR 41944 (July 7, 2000).

The error lies in the first sentence of the section: “Pursuant to section 751(c)(6)(A)(iv) of the Act, the Department will instruct the United States Customs Service to terminate the suspension of liquidation of the merchandise subject to this order entered, or withdrawn from warehouse, on or after January 1, 2000” This sentence should be replaced with: “Pursuant to section 751(c)(6)(A)(iv) of the Act, the Department will instruct the United States Customs Service to terminate the suspension of liquidation of the merchandise subject to this order entered, or withdrawn from warehouse effective, May 12, 2000, the fifth anniversary of the date of publication of the order.” ²

² See Notice of Antidumping Duty Orders: Pure Magnesium From the People's Republic of China, the Russian Federation and Ukraine; Notice of Amended Final Determination of Sales at Less Than Fair Value: Antidumping Duty Investigation of Pure Magnesium From the Russian Federation, 60 FR 25691 (May 12, 1995).

EFFECTIVE DATE: May 12, 2000.

FOR FURTHER INFORMATION CONTACT: Martha V. Douthit, Office of Policy for Import Administration, International Trade Administration, U.S. Department of Commerce, 14th Street & Constitution Avenue, NW, Washington, D.C. 20230: telephone (202) 482-5050.

This correction is issued and published in accordance with sections 751(h) and 777(i) of the Act.

Dated: August 29, 2000.
Troy H. Cribb,
Acting Assistant Secretary for Import Administration.

[FR Doc. 00-22677 Filed 9-1-00; 8:45 am]

BILLING CODE 3510-DS-P